DEPARTMENT OF ENERGY

Federal Energy Regulatory Commission

Combined Notice of Filings #1

Take notice that the Commission received the following electric corporate filings:

Docket Numbers: EC26-64-000.

Applicants: EAM Nelson Holding, LLC, Entergy Power, LLC, EWO Marketing, LLC.

Description: Joint Application for Authorization Under Section 203 of the Federal Power Act of EAM Nelson Holding, LLC, et al.

Filed Date: 2/9/26.

Accession Number: 20260209-5161.

Comment Date: 5 p.m. ET 3/2/26.

Take notice that the Commission received the following electric rate filings:

Docket Numbers: ER25-451-005; ER24-1035-007; ER15-1582-025; ER15-1579-024; ER15-1914-026; ER19-1473-010; ER10-3145-021; ER10-3116-017; ER24-1698-006; ER20-1629-013; ER19-1474-009; ER10-3120-020; ER10-3128-019; ER16-1255-023; ER16-2201-019; ER16-1955-020; ER19-846-015; ER21-2156-011; ER18-1667-015; ER20-2065-010; ER20-2066-010; ER23-1319-007; ER17-1864-018; ER17-1871-018; ER17-1909-018; ER16-474-021; ER16-1901-020; ER23-1668-008; ER16-468-020; ER18-2492-016; ER22-799-010; ER21-1488-010; ER23-1165-006; ER23-2440-007; ER24-2148-005; ER11-2701-022; ER16-2578-020; ER23-1669-008; ER19-847-015; ER15-762-026; ER24-55-007; ER16-2224-019; ER16-890-021; ER15-760-023; ER16-1973-020; ER16-1956-020; ER23-1589-007; ER24-1697-005; ER23-2441-007; ER23-937-007; ER17-544-019; ER17-306-019; ER16-1738-020; ER21-2766-009; ER20-2519-009; ER15-2680-022; ER23-48-008; ER19-1597-012; ER20-1620-014; ER22-414-015; ER23-495-015; ER20-902-014.

Applicants: sPower Energy Marketing, LLC, AES CE Solutions, LLC, AES Marketing and Trading, LLC, AES Solutions Management, LLC, AES Integrated Energy, LLC, West Line Solar, LLC, Sandstone Solar LLC, East Line Solar, LLC, Central Line Solar, LLC, Beacon Solar 4, LLC, Beacon Solar 3, LLC, Beacon Solar 1, LLC, Chevelon Butte RE LLC, Chevelon Butte RE II LLC, AES Westwing II ES, LLC, AES ES Westwing, LLC, Western Antelope Dry Ranch LLC, Western Antelope Blue Sky Ranch B LLC, Western Antelope Blue Sky Ranch A LLC, Summer Solar LLC, Solverde 1, LLC, Silver Peak Energy, LLC, Sierra Solar Greenworks LLC, San Pablo Raceway, LLC, Raceway Solar 1, LLC, North Lancaster Ranch LLC, Mountain View Power Partners IV, LLC, McFarland Storage C, LLC, McFarland Solar B, LLC, McFarland Solar A, LLC, Luna Storage, LLC, Lancaster Area Battery Storage, LLC, FTS Master Tenant 2, LLC, FTS Master Tenant 1, LLC, Estrella Solar, LLC, Elevation Solar C LLC, Central Antelope Dry Ranch C LLC, Bayshore Solar C, LLC, Bayshore Solar B, LLC, Bayshore Solar A, LLC, Baldy Mesa Solar, LLC, Antelope Expansion 3B, LLC, Antelope Expansion 3A, LLC, Antelope Expansion 2, LLC, Antelope Expansion 1B, LLC, Antelope DSR 3, LLC, Antelope DSR 2, LLC, Antelope DSR 1, LLC, Antelope Big Sky Ranch LLC,AES Redondo Beach, L.L.C., AES Huntington Beach, L.L.C., AES Huntington Beach Energy, LLC, AES ES Alamitos, LLC, AES ES Alamitos 2, LLC, AES Energy Storage, LLC, AES Alamitos, LLC, AES Alamitos Energy, LLC, 87RL 8me LLC, 67RK 8me LLC, 65HK 8me LLC, 20SD 8me LLC, 50LW 8me LLC.

Description: Notice of Change in Status of 50LW 8me LLC, et al.

Filed Date: 1/30/26.

Accession Number: 20260130-5595.

Comment Date: 5 p.m. ET 2/20/26.

Docket Numbers: ER26-445-001.

Applicants: Alabama Power Company.

Description: Compliance Filing of Alabama Power Company, o/b/o the Southeast Energy Exchange Market Members, in accordance with directives in the Commission's 01/06/2026 order.

Filed Date: 2/5/26.

Accession Number: 20260205-5159.

Comment Date: 5 p.m. ET 2/26/26.

Docket Numbers: ER26-800-001.

Applicants: Alabama Power Company, Georgia Power Company, Mississippi Power Company.

Description: Tariff Amendment: Alabama Power Company submits tariff filing per 35.17(b): Amendment to RWE Solar (Muletown Solar) Amended and Restated LGIA Filing to be effective 12/12/2025.

Filed Date: 2/11/26.

Accession Number: 20260211-5034.

Comment Date: 5 p.m. ET 3/4/26.

Docket Numbers: ER26-1323-000.

Applicants: Southwest Power Pool, Inc.

Description: 205(d) Rate Filing: Revisions to Add the Conditional High Impact Large Load Service to be effective 7/1/2026.

Filed Date: 2/10/26.

Accession Number: 20260210-5159.

Comment Date: 5 p.m. ET 3/3/26.

Docket Numbers: ER26-1324-000.

Applicants: Southwest Power Pool, Inc.

Description: 205(d) Rate Filing: 3216R1 WAPA & City of Pierre, SD Interconnection Agreement to be effective 2/10/2026.

Filed Date: 2/10/26.

Accession Number: 20260210-5161.

Comment Date: 5 p.m. ET 3/3/26.

Docket Numbers: ER26-1325-000.

Applicants: PJM Interconnection, L.L.C.

Description: 205(d) Rate Filing: Original GIA, Service Agreement No. 7835; Project Identifier No. AF2-111 to be effective 1/12/2026.

Filed Date: 2/11/26.

Accession Number: 20260211-5001.

Comment Date: 5 p.m. ET 3/4/26.

Docket Numbers: ER26-1326-000.

Applicants: Southwest Power Pool, Inc.

Description: 205(d) Rate Filing: 3211R8 North Iowa Municipal Electric Cooperative Association NITSA and NOA to be effective 2/1/2026.

Filed Date: 2/11/26.

Accession Number: 20260211-5010.

Comment Date: 5 p.m. ET 3/4/26.

Docket Numbers: ER26-1327-000.

Applicants: PJM Interconnection, L.L.C.

Description: 205(d) Rate Filing: Amendment to ISA No. 5548; Queue No. AC1-076/AE2-134 to be effective 4/13/2016.

Filed Date: 2/11/26.

Accession Number: 20260211-5011.

Comment Date: 5 p.m. ET 3/4/26.

Docket Numbers: ER26-1328-000.

Applicants: ISO New England Inc.

Description: ISO New England Inc. Capital Budget Quarterly Filing for Fourth Quarter of 2025.

Filed Date: 2/6/26.

Accession Number: 20260206-5191.

Comment Date: 5 p.m. ET 2/27/26.

Docket Numbers: ER26-1329-000.

Applicants: Grover Hill Wind, LLC.

Description: Tariff Amendment: Grover Hill Wind MBR Cancellation Filing to be effective 12/31/9998.

Filed Date: 2/11/26.

Accession Number: 20260211-5032.

Comment Date: 5 p.m. ET 3/4/26.

Docket Numbers: ER26-1330-000.

Applicants: Southwest Power Pool, Inc.

Description: 205(d) Rate Filing: 2881R22 City of Chanute, KS NITSA NOA to be effective 12/1/2025.

Filed Date: 2/11/26.

Accession Number: 20260211-5033.

Comment Date: 5 p.m. ET 3/4/26.

Docket Numbers: ER26-1331-000.

Applicants: PJM Interconnection, L.L.C.

Description: 205(d) Rate Filing: Amendment to ISA 6307&CSA 6308;Cancellation of ISA 6681&CSA 6682;AD2-092/AD2-093 to be effective 4/13/2026.

Filed Date: 2/11/26.

Accession Number: 20260211-5039.

Comment Date: 5 p.m. ET 3/4/26.

Docket Numbers: ER26-1332-000.

Applicants: PJM Interconnection, L.L.C.

Description: 205(d) Rate Filing: Original GIA, Service Agreement No. 7836; AG1-341 to be effective 1/12/2026.

Filed Date: 2/11/26.

Accession Number: 20260211-5040.

Comment Date: 5 p.m. ET 3/4/26.

Docket Numbers: ER26-1333-000.

Applicants: PJM Interconnection, L.L.C.

Description: 205(d) Rate Filing: Amendment to ISA No. 6683 and ICSA No. 6684; Queue No. AD2-096 to be effective 4/13/2026.

Filed Date: 2/11/26.

Accession Number: 20260211-5041.

Comment Date: 5 p.m. ET 3/4/26.

Docket Numbers: ER26-1334-000.

Applicants: NorthWestern Corporation.

Description: 205(d) Rate Filing: SA 605 Ninth Rev—NITSA/NOA with Bonneville Power Admin to be effective 4/13/2026.

Filed Date: 2/11/26.

Accession Number: 20260211-5048.

Comment Date: 5 p.m. ET 3/4/26.

Docket Numbers: ER26-1335-000.

Applicants: PJM Interconnection, L.L.C.

Description: 205(d) Rate Filing: Original GIA Service Agreement SA No. 7833; Project Identifier No. AF1-233 to be effective 1/12/2026.

Filed Date: 2/11/26.

Accession Number: 20260211-5049.

Comment Date: 5 p.m. ET 3/4/26.

Docket Numbers: ER26-1336-000.

Applicants: Midcontinent Independent System Operator, Inc., Ameren Illinois Company.

Description: 205(d) Rate Filing: Ameren Illinois Company submits tariff filing per 35.13(a)(2)(iii: 2026-02-11_SA 4677 Ameren Illinois-Buckheart Solar E&P (J2186) to be effective 2/12/2026.

Filed Date: 2/11/26.

Accession Number: 20260211-5050.

Comment Date: 5 p.m. ET 3/4/26.

Docket Numbers: ER26-1337-000.

Applicants: PJM Interconnection, L.L.C.

Description: 205(d) Rate Filing: Original GIA, Service Agreement No. 7834; AG1-471 to be effective 1/12/2026.

Filed Date: 2/11/26.

Accession Number: 20260211-5061.

Comment Date: 5 p.m. ET 3/4/26.

Docket Numbers: ER26-1338-000.

Applicants: Colleton Energy Storage, LLC.

Description: 205(d) Rate Filing: Colleton Energy Storage, LLC—Application for MBR Authorization to be effective 4/13/2026.

Filed Date: 2/11/26.

Accession Number: 20260211-5086.

Comment Date: 5 p.m. ET 3/4/26.

Docket Numbers: ER26-1339-000.

Applicants: Williamsburg Energy Storage, LLC.

Description: 205(d) Rate Filing: Williamsburg Energy Storage, LLC—Application for MBR Authorization to be effective 4/13/2026.

Filed Date: 2/11/26.

Accession Number: 20260211-5087.

Comment Date: 5 p.m. ET 3/4/26.

Docket Numbers: ER26-1340-000.

Applicants: PacifiCorp.

Description: 205(d) Rate Filing: ESM LT PTP TSA (SA No. 1193) to be effective 4/12/2026.

Filed Date: 2/11/26.

Accession Number: 20260211-5095.

Comment Date: 5 p.m. ET 3/4/26.

Docket Numbers: ER26-1341-000.

Applicants: PJM Interconnection, L.L.C.

Description: Tariff Amendment: Notice of Cancellation of Service Agreement Nos. 5800 & 5834; Queue No. AC1-143 to be effective 4/13/2026.

Filed Date: 2/11/26.

Accession Number: 20260211-5098.

Comment Date: 5 p.m. ET 3/4/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 11, 2026.
Carlos D. Clay,
Deputy Secretary.

[FR Doc. 2026-03058 Filed 2-13-26; 8:45 am]

BILLING CODE 6717-01-P